ENVIRONMENTAL PROTECTION AGENCY

[FRL-85-25-1]

Establishment of the Farm, Ranch, and Rural Communities Advisory Committee (FRRCC)

AGENCY: Environmental Protection Agency (EPA).

ACTION: Notice; establishment of a Federal Advisory Committee.

SUMMARY: As required by section 9(a)(2) of the Federal Advisory Committee Act, we are giving notice that EPA is establishing the Farm, Ranch, and Rural Communities Advisory Committee (FRRCC). The purpose of the FRRCC is to provide advice to the Administrator of EPA on environmental issues and programs that impact, or are of concern to, farms, ranches, and rural communities. The FRRCC is a part of EPA's efforts to expand cooperative working relationships with the agriculture industry and others who are interested in agriculture issues and to achieve greater progress in environmental protection. The major objectives will be to provide advice and recommendations on: Impacts of Agency agriculture-related programs, policies, and regulations regarding climate change and renewable energy; identification and development of a comprehensive environmental strategy for livestock operations; and development of a constructive approach or framework to address areas of common interest between sustainable agriculture and protection of the environment. Topics covered may include issues relating to water, air and radiation, solid waste and emergency response, pesticides and toxics, enforcement and compliance assistance, and research and development. EPA has determined that this federal advisory committee is in the public interest and will assist the Agency in performing its duties and responsibilities. Copies of the FRRCC's charter will be filed with the appropriate congressional committees and the Library of Congress.

FOR FURTHER INFORMATION CONTACT: Alicia Kaiser, Special Assistant for Agricultural Policy, US Environmental Protection Agency (2415B Ariel Rios North), 1200 Pennsylvania Avenue, NW., Washington, DC 20460, E-mail address: Kaiser.Alicia@epa.gov, Telephone number: (202) 564-7273.

SUPPLEMENTARY INFORMATION: The FRRCC will be composed of approximately thirty (30) members who will serve as Regular Government Employees (RGEs) or as Representative members. The FRRCC expects to meet approximately two (2) times a year, or as needed and approved by the Designated Federal Officer (DFO). Meetings will be held in Washington, DC, and the EPA regions. The FRRCC will be examined annually and will exist until the EPA determines that the FRRCC is no longer needed. The charter will be in effect for two years from the date it is filed with Congress. After the initial two-year period, the charter may be renewed as authorized in accordance with section 14 of FACA (5 U.S.C. App. 2 section 14).

Membership: Nominations for membership on the FRRCC were solicited from the public through the Federal Register and from other sources. In selecting members, EPA will consider candidates from farm groups, conservation and environmental groups, agricultural processors and retailers, academia, citizen's groups, and state, local, and tribal governments, will consider the differing perspectives and the collective breadth of experience needed to address the Agency's charge. Because of the nature of the issues to be discussed, it is the intent of the Agency for the FRRCC to have a majority of members who are actively engaged in farming or ranching. USDA and other Federal agencies, as appropriate, will be invited to nominate members to serve as RGEs.

Dated: January 17, 2008.
Jon Scholl,
Counselor to the Administrator for Agricultural Policy.

[FR Doc. 08-477 Filed 2-1-08; 8:45 am]

BILLING CODE 6560-50-M